DEPARTMENT OF ENERGY

Federal Energy Regulatory Commission

[Docket No. RM98-1-000]

Records Governing Off-the-Record Communications; Public Notice

This constitutes notice, in accordance with 18 CFR 385.2201(b), of the receipt of prohibited and exempt off-the-record communications.

Order No. 607 (64 FR 51222, September 22, 1999) requires Commission decisional employees, who make or receive a prohibited or exempt off-the-record communication relevant to the merits of a contested proceeding, to deliver to the Secretary of the Commission, a copy of the communication, if written, or a summary of the substance of any oral communication.

Prohibited communications are included in a public, non-decisional file associated with, but not a part of, the decisional record of the proceeding. Unless the Commission determines that the prohibited communication and any responses thereto should become a part of the decisional record, the prohibited off-the-record communication will not be considered by the Commission in reaching its decision. Parties to a proceeding may seek the opportunity to respond to any facts or contentions made in a prohibited off-the-record communication, and may request that the Commission place the prohibited communication and responses thereto in the decisional record. The Commission will grant such a request only when it determines that fairness so requires. Any person identified below as having made a prohibited off-the-record communication shall serve the document on all parties listed on the official service list for the applicable proceeding in accordance with Rule 2010, 18 CFR 385.2010.

Exempt off-the-record communications are included in the decisional record of the proceeding, unless the communication was with a cooperating agency as described by 40 CFR 1501.6, made under 18 CFR 385.2201(e)(1)(v).

The following is a list of off-the-record communications recently received by the Secretary of the Commission. The communications listed are grouped by docket numbers in ascending order. These filings are available for electronic review at the Commission in the Public Reference Room or may be viewed on the Commission's Web site at http://www.ferc.gov using the eLibrary link. Enter the docket number, excluding the last three digits, in the docket number field to access the document. For assistance, please contact FERC Online Support at FERCOnlineSupport@ferc.gov or toll free at (866) 208-3676, or for TTY, contact (202)502-8659.

Prohibited:

Docket No. | File date | Presenter or requester
1. CP16-21-000 | 5-12-2016 | Diana Carroll.
2. CP16-21-000 | 5-16-2016 | Mass Mailing.¹
3. OR13-25-001; OR13-26-001 | 5-17-2016 | FERC Staff.²
4. CP16-21-000 | 5-18-2016 | Mass Mailing.³
5. CP16-21-000 | 5-18-2016 | Mass Mailing.⁴
6. CP16-21-000 | 5-18-2016 | Wildred Wollheim.
7. CP16-21-000 | 5-20-2016 | Mary Tyler.
8. CP15-554-000 | 5-23-2016 | Jessica E. Pitkin.
9. CP15-500-000 | 5-23-2016 | Luc Novovitch.
10. CP16-21-000 | 5-23-2016 | Maria Niswonler.
11. CP16-21-000 | 5-23-2016 | John Puffer.
12. CP16-21-000 | 5-18-2016 | Mass Mailing.⁵

¹ Two letters have been sent to FERC Commissioners and staff under this docket number.

² Memorandum dated May 6, 2016 reporting communication with Richard Powers of Venable LLP, David Berg and Rob Myrben of Airlines of America, and Jeffrey Petrash of National Propane Gas Association.

³ Two letters have been sent to FERC Commissioners and staff under this docket number.

⁴ Two letters have been sent to FERC Commissioners and staff under this docket number.

⁵ Four letters have been sent to FERC Commissioners and staff under this docket number.

Exempt:

Docket No. | File date | Presenter or requester
1. P-1256-000 | 5-13-2016 | FERC Staff.⁶
2. CP16-21-000 | 5-13-2016 | Town of Knox, NY.
3. CP13-483-000; CP13-492-000 | 5-13-2016 | U.S. House Representative Sam Graves.
4. CP13-492-000; CP13-493-000 | 5-13-2016 | Confederated Tribes of Coos, Lower Umpqua & Siuslaw Indians.
5. CP16-21-000 | 5-18-2016 | State of New Hampshire House Representative Jack Flanagan.
6. P-2232-522 | 5-20-2016 | U.S. Congress.⁷
7. CP16-21-000 | 5-20-2016 | Town of Fitzwilliam, New Hampshire Board of Selectmen.
8. P-13015-001 | 5-20-2016 | U.S. House Representative William R. Keating.
9. CP13-483-001; CP13-492-001 | 5-20-2016 | Jackson County, Oregon Board of Commissioners.
10. ER15-2563-002; EL15-95-002 | 5-23-2016 | U.S. Congress.⁸
11. CP14-96-000; PF16-1-000; PF15-12-000 | 5-23-2016 | Town of Freetown, Massachusetts Board of Selectmen.
12. EL15-2563-002; EL15-95-002 | 5-24-2016 | State of Delaware Governor Jack A. Markell.
13. CP14-517-000 | 5-24-2016 | FERC Staff.⁹
14. CP13-483-000 | 5-27-2016 | FERC Staff.¹⁰

⁶ Email dated April 15, 2016 with Neal Suess of Loup Power District.

⁷ Senators Lindset Graham, Tim Scott, Richard Burr, and Thom Tillis. House Representatives James Clyburn, Joe Wilson, Patrick McHenry, Jeff Duncan, Trey Gowdy, Richard Hudson, Robert Pittenger, David Rouzer, Walter B. Jones, Virginia Foxx, Mick Mulvaney, Renee Ellmers, George Holding, Mark Meadows, Tom Rice, and Mark Walker.

⁸ Senators Thomas R. Carper and Christopher Coons. House Representative John Carney.

⁹ Meeting Summary from May 18, 2016 meeting with representatives for the Gold Pass LNG Export Project.

¹⁰ Memo forwarding letter dated May 24, 2016 from U.S. Army Corps of Engineers (COE) to Jordan Cove and letter dated May 24, 2016 from COE to the Confederated Tribes of the Coos, Lower Umpqua, and Siuslaw Indians.

Dated: June 1, 2016.
Kimberly D. Bose,
Secretary.

[FR Doc. 2016-13409 Filed 6-6-16; 8:45 am]

BILLING CODE 6717-01-P